DEPARTMENT OF TRANSPORTATION

Federal Aviation Administration

[Docket No. FAA-2022-1739]

Agency Information Collection Activities: Requests for Comments; Clearance of a Renewed Approval of Information Collection: Airport Grants Program

AGENCY: Federal Aviation Administration (FAA), DOT.

ACTION: Notice and request for comments.

SUMMARY: In accordance with the Paperwork Reduction Act of 1995, FAA invites public comments about our intention to request the Office of Management and Budget (OMB) approval to renew an information collection. The collection involves gathering data from airport sponsors and planning agencies to determine eligibility, ensure compliance with Federal requirements, and ensure proper use of Federal funds and project accomplishments for the Airport Improvement Program. Submission is required to receive funds.

DATES: Written comments should be submitted by March 6, 2023.

ADDRESSES: Please send written comments:

By Electronic Docket: www.regulations.gov (Enter docket number into search field).

By mail: Carlos Fields, Office of Airports Planning and Programming, APP, Federal Aviation Administration, 800 Independence Avenue SW, Washington, DC 20591.

By fax: 202-267-5302.

FOR FURTHER INFORMATION CONTACT: Carlos Fields by email at: Carlos.Fields@faa.gov; phone: 202-267-8826.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0569.

Title: Airport Grants Program.

Form Numbers: FAA Forms 5100-100, 5100-101, 5100-108, 5100-110, 5100-126, 5100-127, 5100-128, 5100-129, 5100-130, 5100-131, 5100-132, 5100-133, 5100-134, 5100-135, 5100-136, 5100-137, 5100-138, 5100-139, 5100-140, 5100-141, 5100-142, 5100-143, 5100-144, 5100-145, 5370-1.

Type of Review: Renewal of an information collection.

Background: Codification of certain U.S. Transportation laws at 49 U.S.C., repealed the Airport and Airway Improvement Act of 1982, as amended, and the Aviation Safety and Noise Abatement Act of 1979, as amended, and re-codified them without substantive change at Title 49 U.S.C., which is referred to as the “Act.” The Act provides funding for airport planning and development projects at airports included in the National Plan of Integrated Airport Systems. The Act also authorizes funds for noise compatibility planning and to carry out noise compatibility programs. The Coronavirus Response and Relief Supplemental Appropriation Act (CRRSAA) (Pub. L. 116-260) (PDF), signed into law on December 27, 2020, authorizes funds to be awarded as economic relief to eligible U.S. airports and eligible concessions at those airports to prevent, prepare for, and respond to the coronavirus disease 2019 (COVID-19) pandemic. The Coronavirus Aid, Relief, and Economic Security (CARES) Act (H.R. 748, Pub. L. 116-136) (PDF), signed into law on March 27, 2020, authorizes funds to be awarded as economic relief to eligible U.S. airports affected by the prevention of, preparation for, and response to the COVID-19 pandemic. The information required by these programs is necessary to protect the Federal interest in safety, efficiency, and utility of the Airport. Data is collected to meet report requirements of 2 CFR part 200 for certifications of domestic preferences and representations, financial management and performance measurement.

Respondents: Approximately 13,000 applicants.

Frequency: Information is collected on occasion.

Estimated Average Burden per Response: Approximately 9.5 hours.

Estimated Total Annual Burden: Approximately 123,000 hours.

Issued in Washington, DC, on December 29, 2022.
Carlos N. Fields,
Management & Program Analyst, Airports Financial Assistance Division, APP-520.

[FR Doc. 2022-28597 Filed 1-4-23; 8:45 am]

BILLING CODE 4910-13-P